DEPARTMENT OF TRANSPORTATION

Federal Aviation Administration

Notice of Intent To Rule on Request for Change in Land Use From Aeronautical to Non Aeronautical for 16.2 Acres of Land at Pittsfield Municipal Airport, Pittsfield, MA

AGENCY: Federal Aviation Administration (FAA), DOT.

ACTION: Request for public comments.

SUMMARY: Notice is being given that the FAA is considering a request from the Town of Pittsfield, MA to change 16.2 acres of land from aeronautical to non-aeronautical use for non-aeronautical revenue generation at Pittsfield Municipal Airport, Pittsfield, MA. The airport has two projects. The fire project is the installation of a solar farm and the second is a municipal water tank that will service the airport. The solar facility will be built on three on airport sites, totaling 15.5 acres, and will produce 6 mW of energy. The power produced will go into the electrical grid, however, the airport will have a long term land lease with the solar utility, generating a long term revenue stream for the airport. The lease revenue will be placed in the airport's operating and maintenance fund. The municipal water tank will serve the community as well as the airport, significantly enhancing the existing airport water system and serve future development on the airport as well. The tank and access road requires approximately .73 acres and will not interfere with future development of the airport.

DATES: Comments must be received on or before May 26, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Authority: 49 U.S.C. 47107(h)(2).

Issued in Burlington, Massachusetts on April 21, 2021.
Julie Seltsam-Wilps,
Deputy Director, ANE-600.

[FR Doc. 2021-08594 Filed 4-23-21; 8:45 am]

BILLING CODE 4910-13-P